DEPARTMENT OF TRANSPORTATION

Federal Motor Carrier Safety Administration

[Docket No. FMCSA-2017-0267]

Agency Information Collection Activities; Renewal of an Approved Information Collection: Motor Carrier Records Change Form

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. The purpose of this ICR titled “Motor Carrier Records Change Form,” is to more efficiently collect information the Office of Registration and Safety Information (MC-RS) requires to process name and address changes and reinstatements of operating authority.

DATES: Please send your comments by April 12, 2018. OMB must receive your comments by this date in order to act quickly on the ICR.

ADDRESSES: All comments should reference Federal Docket Management System (FDMS) Docket Number FMCSA-2017-0267. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Jeff Secrist, Division Chief, East-South Division, FMCSA Office of Registration and Safety Information, Department of Transportation, Federal Motor Carrier Safety Administration, 6th Floor, West Building, 1200 New Jersey Avenue SE, Washington, DC 20590-0001. Telephone: 202-385-2367 Email Address: jeff.secrist@dot.gov. Office hours are from 9 a.m. to 5 p.m., Monday through Friday, except Federal Holidays.

SUPPLEMENTARY INFORMATION:

Title: Motor Carrier Records Change Form.

OMB Control Number: 2126-0060.

Type of Request: Renewal information collection.

Respondents: For-hire motor carriers, brokers and freight forwarders.

Estimated Number of Respondents: 44,900.

Estimated Time per Response: 15 minutes per response.

Expiration Date: July 31, 2018.

Frequency of Response: On occasion.

Estimated Total Annual Burden: 11,225 hours [44,900 annual responses × 0.25 hours].

Background

FMCSA registers for-hire motor carriers under 49 U.S.C. 13902, surface freight forwarders under 49 U.S.C. 13903, and property brokers under 49 U.S.C. 13904. Each registration is effective from the date specified under 49 U.S.C. 13905(c). 49 CFR part 365.413 states for-hire motor carriers, brokers and freight forwarders are required to notify the Office of Registration and Safety Information when they change the name or form of business. Currently, the name change request can be filed online through the Licensing and Insurance (L&I) website, or companies can fax or mail a letter requesting either name or address changes. Carriers can also request reinstatement of a revoked operating authority either via fax or online via the L&I website. About 39% of name change, address change, and reinstatement requests are received by mail; 38% are filed online; and 23% are filed by faxing a request letter to MC-RS. The information collected is then entered in the L&I database by FMCSA staff. This enables FMCSA to maintain up-to-date records so that the agency can recognize the entity in question in case of enforcement actions or other procedures required to ensure that the carrier is fit, willing and able to provide for-hire transportation services, and so that entities whose authority has been revoked can resume operation if they are not otherwise blocked from doing so. This multi-purpose form simplifies the process of gathering the information needed to process the entities' requests in a timely manner, with the least amount of effort for all parties involved. This multi-purpose form is filed by registrants on an as-needed basis. This multi-purpose form is on the FMCSA website so entities could access and print/fax/email the form to MC-RS.

The form prompts users to report the following data points (whichever are relevant to their records change request): (1) What are the legal/doing business as (dba) names of the entity/representative? (2) What is the contact information of entity/representatives (phone number, address, fax number, email address)? (3) What are the requested changes to name or address of entity? (4) What is the docket MC/MX/FX number of the entity? (5) What is the US DOT number of the entity? (6) Is there any change in ownership, management or control of the entity? (7) What kind of changes is the entity making to the company? (8) Which authority does the entity/representative wish to reinstate, motor carrier or broker? (9) Does the entity/representative authorize the fee for the name change or reinstatement? (10) Does the entity/representative authorize the reinstatement of operating authority or name/address change? (11) What is the credit card information (name, number, expiration date, address, date) for the card used to pay the fee?

The Agency received three comments on the 60-day notice (82 FR 50481). The comments were not directly related to the information collection. Therefore, FMCSA did not make any changes to the information collection.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87 on: March 5, 2018.
G. Kelly Regal,
Associate Administrator for Office of Research and Information Technology.

[FR Doc. 2018-05005 Filed 3-12-18; 8:45 am]

BILLING CODE 4910-EX-P